DEPARTMENT OF HOMELAND SECURITY

U.S. Customs and Border Protection

Declaration Zone Test

AGENCY: U.S. Customs and Border Protection, DHS.

ACTION: General notice.

SUMMARY: This document announces that U.S. Customs and Border Protection (CBP) will conduct a Declaration Zone test at cruise terminal facilities at participating sea ports of entry (POEs) to fulfill a regulatory declaration requirement and allow for streamlined processing. Current CBP regulations require each traveler to provide an oral or written declaration of all articles brought into the United States to a CBP officer. The test will provide arriving travelers with an alternative method to meet this requirement by allowing a demonstrative initial declaration. During the test, CBP will establish two queues for travelers entering the country to choose from: Items to Declare or No Items to Declare. Known as Declaration Zones, these queues will allow travelers entering the country to make their initial declaration simply by choosing which queue to enter. This notice describes the test, while setting forth requirements for participating in the test, the duration of the test, and how CBP will evaluate the test. This notice also invites public comment on any aspect of the test.

DATES: The test will begin no earlier than September 27, 2021, and will run for approximately two years. The start date may vary at each location in accordance with the resumption of passenger operations suspended due to COVID-19.

ADDRESSES: Written comments concerning program, policy, and technical issues may be submitted at any time during the test period via email to simplifytravel@cbp.dhs.gov. Please use “Comment on Declaration Zone Test” in the subject line of the email.

FOR FURTHER INFORMATION CONTACT: Sung Hyun Ha, Acting Director, Sea Innovation, Mobility, and Biometric Advancement, Office of Field Operations, sung.hyun.ha@cbp.dhs.gov or (202) 215-9429.

SUPPLEMENTARY INFORMATION:

Background and Purpose

Current CBP regulations require each traveler to provide an oral or written declaration of all articles brought into the United States to a CBP officer. See part 148, subpart B of title 19 of the Code of Federal Regulations (19 CFR part 148, subpart B). At a sea POE cruise terminal facility, travelers collect their luggage and subsequently proceed through a queuing process (dependent on the facility). A CBP officer then verifies the traveler's identity against the traveler's travel documents. The CBP officer also takes an oral declaration or collects a written declaration via CBP Form 6059B if a traveler completes one. See 19 CFR 148.12 and 148.13. The CBP officer then determines whether the declaration requires a payment of duty or further examination. If either are required, the CBP officer refers the traveler to secondary inspection. When personnel are available, CBP officers also perform roving enforcement operations within the baggage area and egress area. At any point prior to exiting the facility, a traveler may be questioned by a CBP officer and referred for secondary inspection. Travelers referred to secondary inspection may be directed to complete CBP Form 6059B.

In recent years, cruise ship capacities have increased to over 8500 passengers and crew per ship. Accordingly, new and innovative methods of processing are necessary. CBP has partnered with cruise lines to deploy facial comparison technology to verify biometrically the identities of expected travelers and crew upon arrival to the United States. The voluntary facial biometric debarkation (FBD) program replaces manual comparisons between travelers and their travel documents. To participate in the FBD program, cruise lines must provide enhanced data including select reservation, manifest, and voyage information directly to CBP that will be used for targeting and enforcement vetting. Enhanced targeting coupled with biometric verification of identity facilitates the ability for CBP officers to shift focus from administrative tasks to roving enforcement operations. This shift allows for amplified enforcement operations while enabling the growing flow of travelers through size-constrained facilities.

The greater capacity for enforcement that results from participation in the FBD program would also allow for further streamlining processing through the implementation of declaration zones. Declaration zones are an established concept in several countries whereby travelers provide an initial declaration via selection of a departure queue. Declaration zones facilitate the processing of travelers by separating those who need to go directly to a CBP officer for additional processing from those who do not. With declaration zones, travelers select from one of two clearly marked departure queues, either that they have items to declare or no items to declare. This selection acts as travelers' initial declaration simply through the queue that they choose. This addition of a physical, demonstrative form of declaration would allow CBP officers to shift focus from conducting administrative tasks such as taking oral declarations from compliant, low-risk, and highly vetted travelers to roving enforcement operations. Roving officers would be able to use their observation skills, as well as their knowledge of trends and smuggling techniques, to actively monitor and select individuals for inspection.

The Declaration Zone Test

CBP will conduct a Declaration Zone Test to fulfill the declaration requirement under CBP regulations, while also allowing for streamlined processing. Current CBP regulations require each traveler to provide an oral or written declaration of all articles brought into the United States to a CBP officer. See 19 CFR part 148, subpart B. The test will provide arriving travelers with an alternative method to meet this requirement by allowing a demonstrative initial declaration through the use of declaration zones at cruise terminal facilities at certain sea POEs.

Description and Procedures

Within a cruise terminal facility, two distinct customs declaration zone queues will be established for entering the egress area: one for No Items to Declare and another for Items to Declare. Signage will be posted to clearly label the queues at the entrance to the egress area after travelers collect their luggage. The physical act of selecting the No Items to Declare queue or the Items to Declare queue in and of itself will constitute an initial demonstrative declaration. CBP officers will conduct roving enforcement operations within the baggage collection and egress area to ensure traveler compliance.

No Items To Declare Queue

Travelers who determine they have nothing to declare will enter the No Items to Declare queue and proceed through the egress area to the facility exit. CBP officers will conduct roving operations in the No Items to Declare zone to affirm traveler compliance, receive oral declarations, and make referrals to secondary inspection as necessary. Travelers who are not questioned by CBP officers conducting roving operations proceed to the exit.

Items To Declare Queue

Travelers with items to declare will enter the Items to Declare queue and will present before a CBP officer to make an oral declaration. The CBP officer will make a determination if duty is owed by the traveler or if additional inspection is warranted. The CBP officer will then direct the traveler accordingly.

Referral to Secondary Inspection

If a traveler is referred to secondary inspection at any point, CBP officers will follow standard procedures, including collecting oral and/or written declarations during the referral and inspection. CBP officers will also follow current agency policy on declaration amendment opportunities.

Eligibility and Participation Requirements

The test allowing demonstrative declaration to be an acceptable declaration method will begin at two sea POEs: Miami, Florida, and Bayonne, New Jersey. CBP may choose to expand this test to other sea POEs during the two-year test period. Any such expansion will be announced on the CBP website, https://www.cbp.gov. The test will be restricted to closed loop cruises participating in FBD.

CBP will provide directional signage for use in the implementation of the declaration zones. Port management will coordinate with the port authority/terminal managers for the printing and posting of the directional signage and establishing the corresponding queues. The signage is ancillary to the statutory signage currently posted within cruise terminal facilities and the Federal Inspection Services (FIS) area. These directional signs will facilitate the declaration zone process and help travelers understand the expectation when entering a specific queue.

CBP will also work with each cruise line at eligible POEs to develop educational materials to provide to travelers regarding U.S. customs declaration responsibilities and how travelers should navigate both the FBD process and declaration zones.

Authorization for the Test

The test described in this notice is authorized pursuant to 19 CFR 101.9(a), which allows the Commissioner of CBP to impose requirements different from those specified in the CBP Regulations for purposes of conducting a test program or procedure designed to evaluate the effectiveness of new operational procedures regarding the processing of passengers. This test is authorized pursuant to this regulation as it is designed to evaluate whether allowing a demonstrative initial declaration is a feasible way to fulfill the declaration requirement and allow for streamlined processing.

Waiver of Certain Regulatory Requirements

CBP regulations require each traveler to provide an oral or written declaration of all articles brought into the United States to a CBP officer. See 19 CFR 148.12 and 148.13. The test will provide arriving travelers with an alternative method to meet this requirement by allowing a demonstrative initial declaration. All other requirements of 19 CFR part 148, subpart B, regarding declarations, including those provided by 19 CFR 148.18, regarding failure to declare, and 19 CFR 148.19, regarding false or fraudulent statements, still apply.

Duration of Test

This test will run for approximately two years, beginning no earlier than September 27, 2021. The start date may vary at each location in accordance with the resumption of passenger operations suspended due to COVID-19. While the test is ongoing, CBP will evaluate the results and determine whether the test will be extended or otherwise modified. CBP reserves the right to discontinue this test at any time in CBP's sole discretion. CBP will announce any modifications to the duration of the test by notice in the Federal Register.

Evaluation of Declaration Zone Test

CBP will use the results of this test to assess the operational feasibility of allowing an initial demonstrative declaration to be an acceptable declaration method. CBP will evaluate this test based on a number of criteria, including:

• Evaluation of cruise line customer satisfaction surveys gathering feedback on the debarkation process; and

• Comparison of year-over-year enforcement statistics for each test period to ensure no impact to duty collection or to the frequency of enforcement activities.

Paperwork Reduction Act

The Paperwork Reduction Act (PRA) of 1995 (44 U.S.C. 3507(d)) requires that CBP consider the impact of paperwork and other information collection burdens imposed on the public. As there is no new collection of information required in this document, the provisions of the PRA are inapplicable.

Signing Authority

Troy A. Miller, the Acting Commissioner, having reviewed and approved this document, is delegating the authority to electronically sign this document to Robert F. Altneu, who is the Director of the Regulations and Disclosure Law Division for CBP, for purposes of publication in the Federal Register.

Dated: August 25, 2021.
Robert F. Altneu,
Director, Regulations & Disclosure Law Division, Regulations & Rulings, Office of Trade, U.S. Customs and Border Protection.

[FR Doc. 2021-18584 Filed 8-27-21; 8:45 am]

BILLING CODE 9111-14-P